DEPARTMENT OF HOUSING AND URBAN DEVELOPMENT

[Docket No. FR-5376-N-41]

Capital Advance Program Submission Requirements for the Section 202 Supportive Housing for the Elderly and the Section 811 Supportive Housing for Persons With Disabilities

AGENCY: Office of the Chief Information Officer, HUD.

ACTION: Notice.

SUMMARY: The proposed information collection requirement described below has been submitted to the Office of Management and Budget (OMB) for review, as required by the Paperwork Reduction Act. The Department is soliciting public comments on the subject proposal.

This collection facilitates the processing of all Sections 202 and 811 capital advance projects from firm commitment through final closing. Second, it allows for the collection of information under the mixed-finance section of this program so that those owners who wish to partner with for-profit limited partners can participate in the development and management of supportive housing. And lastly, it allows for the collection of information to satisfy the reporting requirements for owners who receive predevelopment grant funds.

DATES: Comments Due Date: June 23, 2010.

ADDRESSES: Interested persons are invited to submit comments regarding this proposal. Comments should refer to the proposal by name and/or OMB approval Number (2502-0470) and should be sent to: HUD Desk Officer, Office of Management and Budget, New Executive Office Building, Washington, DC 20503; fax: 202-395-5806.

FOR FURTHER INFORMATION CONTACT: Leroy McKinney, Jr., Reports Management Officer, QDAM, Department of Housing and Urban Development, 451 Seventh Street, SW., Washington, DC 20410; e-mail Leroy McKinney, Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the Information collection described below. This notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Capital Advance Program Submission Requirements for the Section 202 Supportive Housing for the Elderly and the Section 811 Supportive Housing for Persons With Disabilities.

OMB Approval Number: 2502-0470.

Form Numbers: HUD-: 92013; 92013-Supp; 90169-CA, 91732-A-CA; 90169.A-CA; 92442-CA; 92442-A-CA; 2328; 92457; 51994; 2530; 92434-CA; 92435-CA; 2880; 935.2; 9832; 9839-A; 9839-B; 9839-C; 2453.1-CA; 90179-CA; 90172-A-CA; 90172-B-CA; 90167-CA; 92403-CA; 90164-CA; 92452-A; 92452-A-CA; 92450-CA; 2554; 92466.1-CA; 92466-CA; 90163-CA; 90163.1-CA; 90165-CA; 92443-CA; 92403.1; 90177-CA; 90170-CA; 92464; 92329; 90164-CA; 92264; 90166-CA; 90166-A-CA; 92433-CA; 93566-CA; 93432-CA; 90178-CA; 92485; 92476-A; 92476-A-CA; 92448; 92437; 93479; 93480; 93481; 92458; 90173-A-CA; 90173-B-CA; 90173-C-CA; 92330-A; 92330; 92331; 92580-CA; 90175-CA; 90171-CA; 90176-CA; 92466-CA; 93566-CA; 90175.1-CA; 93566.1-CA; 27054; 50080-CAH, SF-269; SF-1199; SF-LLL; and FM-1006.

Description of the Need for the Information and Its Proposed Use: This collection facilitates the processing of all Sections 202 and 811 capital advance projects from firm commitment through final closing. Second, it allows for the collection of information under the mixed-finance section of this program so that those owners who wish to partner with for-profit limited partners can participate in the development and management of supportive housing. And lastly, it allows for the collection of information to satisfy the reporting requirements for owners who receive predevelopment grant funds.

Frequency of Submission: On occasion, Monthly.

| Number of respondents | Annual responses | × | Hours per response | = | Burden hours
Reporting Burden | 260 | 34.919 |  | 0.988 |  | 8,973

Total Estimated Burden Hours: 8,973.

Status: Extension of a currently approved collection.

Authority: Section 3507 of the Paperwork Reduction Act of 1995, 44 U.S.C. 35, as amended.

Dated: May 18, 2010.
Leroy McKinney, Jr.,
Departmental Reports Management Officer, Office of the Chief Information Officer.

[FR Doc. 2010-12439 Filed 5-21-10; 8:45 am]

BILLING CODE 4210-67-P